ENVIRONMENTAL PROTECTION AGENCY

40 CFR Parts 87 and 1030

[EPA-HQ-OAR-2018-0276; FRL-10013-21-OAR]

RIN 2060-AT26

Public Hearing for Control of Air Pollution From Airplanes and Airplane Engines: GHG Emission Standards and Test Procedures

AGENCY: Environmental Protection Agency (EPA).

ACTION: Notification of public hearing.

SUMMARY: The Environmental Protection Agency (EPA) is announcing a virtual public hearing to be held on September 17, 2020, on its proposed greenhouse gas (GHG) emission standards for airplanes and airplane engines, which was published on August 20, 2020.

DATES: EPA will hold a virtual public hearing on September 17, 2020. Please refer to the SUPPLEMENTARY INFORMATION section for additional information on the public hearing.

ADDRESSES: The virtual public hearing will be held on September 17, 2020. The hearing will begin at 10 a.m. Eastern Time (ET) and end when all parties who wish to speak have had an opportunity to do so. Additional information regarding the hearing appears below under SUPPLEMENTARY INFORMATION.

FOR FURTHER INFORMATION CONTACT: Bryan Manning, Office of Transportation and Air Quality, Assessment and Standards Division, Environmental Protection Agency, 2000 Traverwood Drive, Ann Arbor, MI 48105; telephone number: 734-214-4832; email address: manning.bryan@epa.gov.

SUPPLEMENTARY INFORMATION: EPA is proposing GHG emission standards applicable to certain classes of engines used by certain civil subsonic jet airplanes and by certain civil larger subsonic propeller-driven airplanes with turboprop engines 85 FR 51556, August 20, 2020. These proposed standards are equivalent to the airplane CO2 standards adopted by the International Civil Aviation Organization (ICAO) in 2017.

Participation in virtual public hearing. Please note that EPA is deviating from its typical approach because the President has declared a national emergency. Because of current recommendations from the Centers for Disease Control and Prevention (CDC), as well as state and local orders for social distancing to limit the spread of COVID-19, EPA cannot hold in-person public meetings at this time.

The virtual public hearing will provide interested parties the opportunity to present data, views, or arguments concerning the proposal (the official version of which was published 85 FR 51556, August 20, 2020, and a copy of which is available at https://www.epa.gov/regulations-emissions-vehicles-and-engines/regulations-greenhouse-gas-emissions-aircraft). EPA may ask clarifying questions during the oral presentations but will not respond to the presentations at that time. Written statements and supporting information submitted during the comment period will be considered with the same weight as any oral comments and supporting information presented at the public hearing. EPA recommends submitting the text of your oral comments as written comments to the rulemaking Docket ID No. EPA-HQ-OAR-2018-0276, which can be found at https://www.regulations.gov. Written comments must be received on or before October 19, 2020.

The hearing will begin at 10 a.m. Eastern Time (ET) and end when all parties who wish to speak have had an opportunity to do so. A five-minute time limit will be placed on all oral testimony.

EPA is also asking all hearing attendees to pre-register for the hearing, even those who do not intend to provide testimony. This will help EPA ensure that sufficient phone lines will be available. The EPA is requesting that you pre-register by September 14, 2020, to allow for the orderly scheduling of testimony. For registration instructions, please send an email to ASD-Registration@epa.gov. For those without internet access, please call 888-528-8331 to register.

Please note that any updates made to any aspect of the hearing logistics, including potential additional sessions, will be posted online at https://www.epa.gov/regulations-emissions-vehicles-and-engines/regulations-greenhouse-gas-emissions-aircraft. While EPA expects the hearing to go forward as set forth above, please monitor our website or contact the person listed in the FOR FURTHER INFORMATION CONTACT section via email or telephone to determine if there are any updates.

If you require the services of a translator or special accommodations such as audio description, please pre-register for the hearing and describe your needs by September 10, 2020. EPA may not be able to arrange accommodations without advance notice.

How can I get copies of the proposed action and other related information? EPA has established a docket for this action under Docket ID No. EPA-HQ-OAR-2018-0276, which can be found at https://www.regulations.gov. EPA has also developed a website for this rule at https://www.epa.gov/regulations-emissions-vehicles-and-engines/regulations-greenhouse-gas-emissions-aircraft. Please refer to the notice of proposed rulemaking for detailed information on accessing information related to the proposal.

Dated: August 20, 2020.
William Charmley,
Director, Assessment and Standards Division.

[FR Doc. 2020-18715 Filed 8-25-20; 8:45 am]

BILLING CODE 6560-50-P